DEPARTMENT OF COMMERCE

International Trade Administration

[A-570-967]

Aluminum Extrusions from the People's Republic of China: Postponement of Preliminary Determination of Antidumping Duty Investigation

AGENCY: Import Administration, International Trade Administration, Department of Commerce.

EFFECTIVE DATE: August 19, 2010.

FOR FURTHER INFORMATION CONTACT: Paul Stolz or Eugene Degnan, AD/CVD Operations, Office 8, Import Administration, International Trade Administration, U.S. Department of Commerce, 14th Street and Constitution Avenue, NW, Washington, DC 20230; telephone: (202) 482-4474 or (202) 482-0414, respectively.

SUPPLEMENTARY INFORMATION:

Postponement of Preliminary Determination

On April 20, 2010, the Department of Commerce (“the Department”) initiated an antidumping duty investigation on Aluminum Extrusions from the People's Republic of China.¹ The notice of initiation stated that, unless postponed, the Department would issue its preliminary determination no later than 140 days after the date of issuance of the initiation, in accordance with section 733(b)(1)(A) of the Tariff Act of 1930, as amended (“the Act”). The preliminary determination is currently due no later than September 7, 2010.

¹ See Aluminum Extrusions from the People's Republic of China: Initiation of Antidumping Duty Investigation, 75 FR 22109 (April 27, 2010).

On August 4, 2010, the Aluminum Extrusions Fair Trade Committee (comprised of Aerolite Extrusion Company, Alexandria Extrusion Company, Benada Aluminum of Florida, Inc., William L. Bonnell Company, Inc., Frontier Aluminum Corporation, Futura Industries Corporation, Hydro Aluminum North America Inc., Kaiser Aluminum Corporation, Profile Extrusion Company, Sapa Extrusions, Inc., and Western Extrusions Corporation) and the United Steel, Paper and Forestry, Rubber, Manufacturing, Energy, Allied Industrial and Service Workers International Union (collectively, “Petitioners”), made a timely request, pursuant to 19 CFR 351.205(b)(2) and (e), for a postponement of the preliminary determination, in order to allow additional time for the review of questionnaire responses.² Because there are no compelling reasons to deny the request, in accordance with section 733(c)(1)(A) of the Act, the Department is postponing the deadline for the preliminary determination by 50 days to no later than October 27, 2010. The deadline for the final determination will continue to be 75 days after the date of the preliminary determination, unless extended.

² See letter from Petitioners, “Antidumping Duty Investigation on Certain Aluminum Extrusions From China: Requests To Postpone The Preliminary Determination And To Extend The Deadlines For Comments On Surrogate Country Selection And Surrogate Factor Valuation,” August 4, 2010.

This notice is issued and published pursuant to section 733(c)(2) of the Act and 19 CFR 351.205(f)(1).

Dated: August 11, 2010.
Ronald K. Lorentzen,
Deputy Assistant Secretary for Import Administration.

[FR Doc. 2010-20582 Filed 8-18-10; 8:45 am]

BILLING CODE 3510-DS-S